DEPARTMENT OF ENERGY

Federal Energy Regulatory Commission

[Docket No. ER01-1807-016, et al.]

Carolina Power & Light Company, et al.; Electric Rate and Corporate Filings

February 3, 2005.

The following filings have been made with the Commission. The filings are listed in ascending order within each docket classification.

1. Carolina Power & Light Company, Florida Power Corporation

[Docket Nos. ER01-1807-016 and ER01-2020-013]

Take notice that on January 31, 2005, Carolina Power & Light Company d/b/a Progress Energy Carolinas, Inc. (CP&L) submitted a refund report pursuant to the Commission's order issued May 21, 2003 in Docket Nos. ER01-1807-005, et al., 103 FERC ¶ 61,209 (2003).

CP&L states that copies of the filing were served on the North Carolina Utilities Commission and the South Carolina Public Service Commission.

Comment Date: 5 p.m. eastern time on February 22, 2005.

2. Allegheny Energy Supply Lincoln Generating Facility, LLC

[Docket No. ER01-2066-004]

Take notice that on January 31, 2004 Lincoln Generating Facility, LLC (Lincoln) formerly, Allegheny Energy Supply Lincoln Generating Facility, LLC, filed with the Commission a notice of change in status in connection with the transfer of the membership interests that were held by Allegheny Energy Supply Company, LLC in Lincoln, which owns and operates an approximately 672-megawatt generating facility located in Manhattan, Illinois, to the Grant Peaking Power Holdings, LLC and Colbath Peaking Power, LLC.

Comment Date: 5 p.m. eastern time on February 22, 2005.

3. Midwest Independent Transmission System Operator, Inc.

[Docket Nos. ER03-86-008, ER03-83-007]

Take notice that on January 28, 2004, the Midwest Independent Transmission System Operator, Inc. (Midwest ISO), submitted proposed revisions to the Midwest ISO open access transmission tariff, regarding the removal of all TRANSLink references from the OATT in compliance with the Commission's order issued December 29, 2004 in Docket No. ER03-83-004, et al., 109 FERC ¶ 61,374. Midwest ISO requests an effective date of October 30, 2004.

The Midwest ISO states that it has electronically served a copy of this filing, with attachments, upon all Midwest ISO members, member representatives of Transmission Owners and Non-Transmission Owners, the Midwest ISO Advisory Committee participants, as well as all states commissions within the region. In addition, Midwest ISO states that the filing has been electronically posted on the Midwest ISO's Web site at http://www.midwestiso.org. under the heading “Filings to FERC” for other interested parties in this matter. The Midwest ISO indicates that it will provide hard copies to any interested parties upon request.

Comment Date: 5 p.m. eastern time on February 18, 2005.

4. Allegheny Power System Operating Companies: Monongahela Power Company; Potomac Edison Company; and West Penn Power Company, All d/b/a Allegheny Power; PHI Operating Companies: Potomac Electric Power Company, Delmarva; Power & Light Company, and Atlantic City Electric Company; Baltimore Gas and Electric Company; Jersey Central Power & Light Company; Metropolitan Edison Company; PECO Energy Company; Pennsylvania Electric Company; PPL Electric Utilities Corporation; Public Service Electric and Gas Company; Rockland Electric Company; UGI Utilities, Inc.

[Docket No. ER04-156-006]

Take notice that on January 31, 2005, Allegheny Power System Operating Companies, et al. (PJM Settling Transmission Owners) submitted a filing on intra-PJM rate design pursuant to the settlement agreement filed on May 26, 2004 in Docket No. ER04-156-000, et al.

Comment Date: 5 p.m. eastern time on February 22, 2005.

5. Diverse Power Incorporated

[Docket No. ER04-444-002]

Take notice that on January 31, 2005, Diverse Power Incorporated, an Electric Membership Corporation (Diverse Power) submitted for filing with the Commission its triennial updated market analysis in accordance with Appendix A of the Commission's letter order issued January 30, 2002 in Docket No. ER02-476-000.

Comment Date: 5 p.m. eastern time on February 22, 2005.

6. PJM Interconnection, L.L.C. Operating Companies, et al.

[Docket Nos. ER04-776-002 and ER04-776-004]

Take notice that on January 18, 2005, as amended on January 21, 2005, the Pennsylvania Public Utility Commission (PaPUC) filed a State Certification setting out certain representations and warranties with respect to the treatment of confidential information disclosed by PJM Interconnection, L.L.C. and/or PJM Market Monitor pursuant to section 18.17.4 of the Amended and Restated Operating Agreement of PJM Interconnection, L.L.C.

Comment Date: 5 p.m. eastern time on February 11, 2005.

7. California Independent System Operator Corporation

[Docket No. ER05-149-002]

Take notice that on January 31, 2005, the California Independent System Operator Corporation (ISO) submitted a filing in compliance with the Commission's December 30, 2004 Order in Docket Nos. ER05-149-000 through ER05-155-000, 109 FERC ¶ 61,391, with regard to the compliance directives in Docket No. ER05-149-000.

The ISO states that this filing has been served on all parties on the official service list for the captioned docket. In addition, the ISO states it has posted this filing on the ISO Home Page.

Comment Date: 5 p.m. eastern time on February 22, 2005.

8. California Independent System Operator Corporation

[Docket No. ER05-151-002]

Take notice that on January 31, 2005, the California Independent System Operator Corporation (ISO submitted a filing in compliance with the Commission's December 30, 2004 Order in Docket Nos. ER05-149-000 through ER05-155-000, 109 FERC ¶ 61,391, with regard to the compliance directives in Docket No. ER05-151-000.

The ISO states that this filing has been served on all parties on the official service list and posted on the ISO Home Page.

Comment Date: 5 p.m. eastern time on February 22, 2005.

9. California Independent System Operator Corporation

[Docket No. ER05-155-002]

Take notice that on January 31, 2005, the California Independent System Operator Corporation (ISO) submitted a filing in compliance with the Commission's December 30, 2004 Order in Docket Nos. ER05-149-000 through ER05-155-000, 109 FERC ¶ 61,391, with regard to the compliance directives in Docket No. ER05-155-000.

The ISO states that this filing has been served upon all parties on the official service list for the captioned docket. In addition, the ISO states it has posted this filing on the ISO Home Page.

Comment Date: 5 p.m. eastern time on February 22, 2005.

10. Allegheny Power

[Docket No. ER05-512-000]

Take notice that on January 31, 2005 Monongahela Power Company, The Potomac Edison Company, and West Penn Power Company, all doing business as Allegheny Power, filed eight (8) First Revised Interconnection and Operating Agreements entered into with Allegheny Power's affiliate, Allegheny Energy Supply Company, LLC (AE Supply). Allegheny Power states that the purpose of the revisions is to add a monthly charge to compensate Allegheny Power for AE Supply's use of Allegheny Power's distribution system to deliver the output of the generating facilities to the Allegheny Power transmission system. Allegheny Power requests an effective date of April 1, 2005.

Comment Date: 5 p.m. eastern time on February 22, 2005.

11. PJM Interconnection, L.L.C.

[Docket No. ER05-513-000]

Take notice that on January 31, 2005, the PJM Transmission Owners, acting through the PJM and West Transmission Owners Agreement Administrative Committees, submitted revisions to Schedule 12 of the PJM Interconnection, L.L.C. (PJM) Open Access Transmission Tariff, to establish the procedures by which the PJM Transmission Owners may, if they so choose, recover the costs incurred in constructing new transmission facilities and to harmonize the rate treatment of new and existing facilities. The PJM Transmission Owners state that this filing is being made to satisfy the obligation regarding the harmonization of rate treatment for new and existing facilities undertaken by certain PJM Transmission Owners in the settlement agreement in Docket Nos. ER04-156-000, et al. (Settlement Agreement) approved by the Commission on August 9, 2004, Allegheny Power System Operating Cos., et al., 108 FERC ¶ 61,167 (2004). The PJM Transmission Owners state that the tariff sheets have an effective date of June 1, 2005, in accordance with the Settlement Agreement.

The PJM Transmission Owners state that copies of the filing were served upon all PJM Members, the regulatory commissions in the PJM Region and parties listed on the official service list in Docket Nos. ER04-156, et al.

Comment Date: 5 p.m. eastern time on February 22, 2005.

12. Avista Corporation

[Docket No. ER05-514-000]

Take notice that on January 31, 2005, Avista Corporation (Avista Corp) filed a Non-conforming Long-Term Firm Point-to-Point Service Agreement between Avista Corp and the Spokane Tribe of Indians under Avista Corp's FERC Electric Tariff Volume No. 8. Avista Corp requests an effective date of April 1, 2005.

Avista Corp states that copies of the filing were served on the Spokane Tribe of Indians.

Comment Date: 5 p.m. eastern time on February 22, 2005.

13. Baltimore Gas and Electric Company and Pepco Holdings, Inc. Operating Affiliates: Potomac Electric Power Company, Delmarva Power & Light Company, and Atlantic City Electric Company

[Docket No. ER05-515-000]

Take notice that on January 31, 2005, Baltimore Gas and Electric Company (BGE) and the public utility operating affiliates of Pepco Holdings, Inc.: Potomac Electric Power Company, Delmarva Power and Light Company, and Atlantic City Electric Company (collectively, the Transmission Owners) tendered for filing revised sheets to the PJM Interconnection, L.L.C. Open Access Transmission Tariff to implement a transmission cost of service formula rate for the Transmission Owners. A June 1, 2005 effective date is requested.

BGE and the Transmission Owners state that a copy of the filing is being served on representatives of PJM, the public utility commissions of each state in which the Transmission Owners operate, and the PJM members (which includes all affected transmission customers), and is also available for inspection at the Transmission Owners' offices. BGE and the Transmission Owners further state that the filing is being posted on the ListServ compiled in Docket No. ER04-156, and on the PJM Web site, http://www.PJM.com.

Comment Date: 5 p.m. eastern time on February 22, 2005.

14. Pacific Gas and Electric Company

[Docket No. ER05-516-000]

Take notice that on January 28, 2005, Pacific Gas and Electric Company (PG&E) tendered for filing two Large Facilities Agreements and nine Small Facilities Agreements, submitted pursuant to the Procedures for Implementation of section 3.3 of the 1987 Agreement between PG&E and the City and County of San Francisco (City) (Procedures) that were approved by this Commission in Docket No. ER99-2532-000 and recently updated in a negotiated clarifying supplement filed in the parties' settlement in Docket No. ER04-215-000. PG&E states that this is PG&E's eighth quarterly filing submitted pursuant to section 4 of the Procedures.

PG&E states that copies of this filing have been served upon City, the California Independent System Operator Corporation, and the California Public Utilities Commission.

Comment Date: 5 p.m. eastern time on February 22, 2005.

15. PJM Interconnection, L.L.C.

[Docket No. ER05-517-000]

Take notice that on January 31, 2005, PJM Interconnection, L.L.C. (PJM), submitted for filing an executed interconnection service agreement among PJM, FirstEnergy Nuclear Operating Company, Duquesne Light Company, and American Transmission Systems, Inc. PJM requests an effective date of January 1, 2005.

PJM states that copies of this filing were served on the parties to the agreement and the state regulatory commissions within the PJM region.

Comment Date: 5 p.m. eastern time on February 22, 2005.

16. Southern Company Services, Inc.

[Docket No. ER05-518-000]

Take notice that, on January 31, 2005, Southern Company Services, Inc. acting as agent for Alabama Power Company, Georgia Power Company, Gulf Power Company, Mississippi Power Company, and Savannah Electric and Power Company (collectively, Southern Companies), filed a transmission service agreement designated as Third Revised Service Agreement No. 472 under the Open Access Transmission Tariff of Southern Companies, FERC Electric Tariff, Fourth Revised Volume No. 5.

Southern Companies state that a copy of the filing was forwarded to Morgan Stanley Capital Group, the counterparty to the agreement.

Comment Date: 5 p.m. eastern time on February 22, 2005.

17. Southwest Power Pool, Inc.

[Docket No. ER05-519-000]

Take notice that on January 31, 2005, Southwest Power Pool, Inc. (SPP) submitted for filing an unexecuted service agreement for Network Integration Transmission Service (Service Agreement) between SPP and Tex-La Electric Cooperative of Texas, Inc. (Tex-La), as well as an unexecuted Network Operating Agreement (NOA) between SPP, Tex-La and American Electric Power Company (AEP). SPP seeks an effective date of January 1, 2005 for both the Service Agreement and the NOA.

SPP states that both Tex-La and AEP were served with a copy of this filing.

Comment Date: 5 p.m. eastern time on February 22, 2005.

18. Southwest Power Pool, Inc.

[Docket No. ER05-520-000]

Take notice that on January 31, 2005, Southwest Power Pool, Inc. (SPP) submitted for filing an unexecuted service agreement for Network Integration Transmission Service (Service Agreement) between SPP and East Texas Electric Cooperative (ETEC), as well as an unexecuted Network Operating Agreement (NOA) between SPP, ETEC and American Electric Power Company. SPP seeks an effective date of January 1, 2004 for both the Service Agreement and the NOA.

SPP states that ETEC and American Electric Power Company were served with a copy of this filing.

Comment Date: 5 p.m. eastern time on February 22, 2005.

19. ISO New England Inc.

[Docket No. ER05-521-000]

Take notice that on January 31, 2005, ISO New England Inc. (the ISO) submitted an unexecuted market participant service agreement (MPSA) on behalf of certain entities, identified in the filing, that are currently New England Power Pool Participants. The ISO proposes to include the MPSA within Attachment E of the ISO's Transmission, Markets and Service Tariff, FERC Electric Tariff No. 3, as Service Agreement No. 1. The ISO states that MPSA sets the basic terms and conditions under which the ISO will provide services and a Market Participant may participate in the markets and programs administered by the ISO as a regional transmission organization.

The ISO also submitted an unexecuted Transmission Service Agreement for Regional Network Service (TSA-RNS) on behalf of the following entities: MassDevelopment; Miller Hydro Group; Princeton Municipal Light Department; and Town of Wolfeboro Municipal Electric Department. The ISO states that it proposes to include the TSA-RNS within Attachment E of the ISO's Transmission, Markets and Service Tariff, FERC Electric Tariff No. 3, as Service Agreement No. 3. The ISO states that the ISA-RNS sets the basic terms and conditions under which the ISO will provide and a Transmission Customer will receive Regional Network Service.

The ISO also submitted a Service Agreement No. 3 within Attachment E of the ISO's Transmission, Markets and Service Tariff, FERC Electric Tariff No. 3, for future use in the event that unexecuted service agreements need to be filed for the provision of Through or Out Service to entities not required to execute the Market Participant Service Agreement.

The ISO states that copies of the filing were sent to the New England state governors and regulatory agencies and the Participants in NEPOOL.

Comment Date: 5 p.m. eastern time on February 22, 2005.

20. Bluegrass Generation Company, L.L.C.

[Docket No. ER05-522-000]

Take notice that on January 31, 2005, Bluegrass Generation Company, L.L.C. (Bluegrass) submitted for filing a rate schedule under which it specifies its revenue requirement for providing cost-based Reactive Support and Voltage Control from a natural gas-fired peaking generating facility located in Oldham, Kentucky, which is interconnected with the transmission system of Louisville Gas and Electric Company (LG&E), currently a participant in the Midwest Independent Transmission System Operator, Inc. (Midwest ISO). Bluegrass requests an effective date of March 1, 2005.

Bluegrass states that it has provided copies of the filing to the designated corporate officials and or representatives of LG&E, the Midwest ISO, and the Kentucky Public Service Commission.

Comment Date: 5 p.m. eastern time on February 22, 2005.

21. Southwest Power Pool, Inc.

[Docket No. ER05-523-000]

Take notice that on January 31, 2005, Southwest Power Pool, Inc. (SPP) submitted for filing an unexecuted service agreement for Network Integration Transmission Service (Service Agreement) between SPP and Northeast Texas Electric Cooperative (NTEC), as well as an unexecuted Network Operating Agreement (NOA) between SPP, NTEC and American Electric Power Company (AEP). SPP seeks an effective date of January 1, 2005 for both the Service Agreement and the NOA.

SPP states that both NTEC and AEP were served with a copy of this filing.

Comment Date: 5 p.m. eastern time on February 22, 2005.

22. Lincoln Generating Facility, LLC

[Docket No. ER05-524-000]

Take notice that on January 31, 2005, Lincoln Generating Facility, LLC (Lincoln) filed (1) a notice of succession to notify the Commission that, as a result of a name change, Lincoln has succeeded to the FERC Rate Schedule (rate schedule) of Allegheny Energy Supply Lincoln Generating Facility, LLC, and (2) amendments to the rate schedule to reflect the fact that Lincoln is no longer affiliated with Allegheny Energy, Inc. or any of its affiliates, or any other electric utility with a franchised service territory. Lincoln requests an effective date of December 31, 2004.

Comment Date: 5 p.m. eastern time on February 22, 2005.

23. Sun River Electric Cooperative, Inc.

[Docket Nos. ES05-16-000, ES05-16-001]

Take notice that on January 11, 2005, and as amended on January 28, 2005, Sun River Electric Cooperative, Inc. (Sun River) submitted an application pursuant to section 204 of the Federal Power Act seeking authorization to borrow money pursuant to a loan agreement with the National Rural Utilities Cooperative Finance Corporation (CFC) in an amount not to exceed $14,799,188. Sun River requests a waiver from the Commission's competitive bidding and negotiated placement requirements at 18 CFR 34.2.

Comment Date: 5 p.m. eastern time on February 14, 2005.

24. ISO New England Inc. et al., Bangor Hydro-Electric Company, et al.

[Docket Nos. RT04-2-011, ER04-116-011, and ER04-432-004]

Take notice that on January 28, 2005, ISO New England Inc., (ISO-NE) and the New England transmission owners (consisting of Bangor Hydro-Electric Company; Central Maine Power Company; Fitchburg Gas and Electric Light Company; Maine Electric Power Company; New England Power Company; Northeast Utilities Service Company on behalf of its operating companies, The Connecticut Light and Power Company, Western Massachusetts Electric Company, Pubic Service Company of New Hampshire, Holyoke Power and Electric Company and Holyoke Water Power Company; NSTAR Electric and Gas Corporation on behalf of its operating affiliates, Boston Edison Company, Commonwealth Electric Company and Cambridge Electric Light Company; The United Illuminating Company; Unitil Energy Systems, Inc.; and Vermont Electric Power Company), submitted large generator interconnection procedures and a large generator interconnection agreement and related changes to the ISO-New England Transmission, markets and services tariff in compliance with the orders issued by the Commission on March 24, 2004, 106 FERC ¶ 61,280 (2004) and November 8, 2004, 109 FERC ¶ 61,155 (2004).

ISO-NE states that copies of said filing have been served upon all parties to this proceeding, upon all NEPOOL Participants (electronically), non-Participant Transmission Customers, and the governors and regulatory agencies of the six New England states.

Comment Date: 5 p.m. eastern time on February 18, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Linda Mitry,
Deputy Secretary.

[FR Doc. E5-564 Filed 2-9-05; 8:45 am]

BILLING CODE 6717-01-P